DEPARTMENT OF THE INTERIOR

National Park Service

[NPS-WASO-NRNHL-DTS#-34417; PPWOCRADI0, PCU00RP14.R50000]

National Register of Historic Places; Notification of Pending Nominations and Related Actions

AGENCY: National Park Service, Interior.

ACTION: Notice.

SUMMARY: The National Park Service is soliciting electronic comments on the significance of properties nominated before August 20, 2022, for listing or related actions in the National Register of Historic Places.

DATES: Comments should be submitted electronically by September 14, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 20, 2022. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

NEW HAMPSHIRE

Grafton County

Lower Intervale Grange #321, 471 Daniel Webster Hwy., Plymouth, SG100008224

OHIO

Cuyahoga County

Sidaway Bridge (Twentieth-Century African American Civil Rights Movement in Ohio MPS), Sidaway Avenue over Kingsbury Run, connecting Sidaway Ave., and East 67th and Sidaway Ave., near Berwick Rd., Cleveland, MP100008227

VERMONT

Windham County

Broad Brook Grange Hall, 3940 Guilford Center Rd., Guilford, SG10000822

WASHINGTON

Franklin County

Morning Star Baptist Church, (The Black American Experience in Pasco, Washington MPS), 631 South Douglas Ave., Pasco, MP100008226

WISCONSIN

St. Croix County

New Richmond East Side Historic District, Bounded by South Arch Ave., the rear of properties facing East 2nd St., South Starr Ave., and East 3rd St., New Richmond, SG100008225

WYOMING

Hot Springs County

Downtown Thermopolis Historic District (Boundary Increase), 531-541 Broadway, 109 South 6th St., Thermopolis, BC100008220

Authority: Section 60.13 of 36 CFR part 60.

Dated: August 23, 2022.
Sherry A. Frear,
Chief, National Register of Historic Places/National Historic Landmarks Program.

[FR Doc. 2022-18682 Filed 8-29-22; 8:45 am]

BILLING CODE 4312-52-P